DEPARTMENT OF COMMERCE

National Oceanic and Atmospheric Administration

Proposed Information Collection; Comment Request; Alaska Notification of Intent To Process Aleutian Islands Pacific Cod

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 22, 2019.

ADDRESSES: Direct all written comments to Adrienne Thomas, Government Information Specialist, NOAA, 151 Patton Avenue, Room 159, Asheville, NC 28801 (or via the internet at PRAcomments@doc.gov). All comments received will be a part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Gabrielle Aberle, National Marine Fisheries Service, P.O. Box 21668, Juneau, AK 99802-1668. Telephone (907) 586-7228.

SUPPLEMENTARY INFORMATION:

I. Abstract

This request is for extension of a currently approved information collection.

In 2016, NMFS implemented this collection of information under Amendment 113 to the Fishery Management Plan for Groundfish of the Bering Sea and Aleutian Islands (BSAI) Management Area. Amendment 113 modified management of the BSAI Pacific cod fishery to set aside a portion of the Aleutian Islands (AI) Pacific cod total allowable catch for harvest by vessels directed fishing for AI Pacific cod and delivering their catch for processing to a shoreside processor located on land west of 170° W longitude in the Aleutian Islands (“Aleutian Islands shoreplant”). This harvest set-aside applies only if specific notification and performance requirements are met, and only during the first few months of the fishing year. This harvest set-aside provides the opportunity for vessels, Aleutian Islands shoreplants, and the communities where Aleutian Islands shoreplants are located to receive benefits from a portion of the Aleutian Islands Pacific cod fishery. The notification and performance requirements preserve an opportunity for the complete harvest of the BSAI Pacific cod resource if the set-aside is not fully harvested.

This collection of information contains the annual notification of intent that the City of Adak or the City of Atka submits to NMFS of its intent to process Aleutian Islands Pacific cod in the upcoming fishing year in order for the Bering Sea Trawl Catcher Vessel A-Season Sector Limitation and the Aleutian Islands Catcher Vessel Harvest Set-Aside to go into effect in the upcoming fishing year. The City Manager of Adak or the City Administrator of Atka is required to provide NMFS with the annual notification of intent no later than October 31 for the harvest set-aside to go into effect in the upcoming year.

In March 2019, the U.S. District Court for the District of Columbia vacated the rule implementing Amendment 113 and remanded Amendment 113 to NMFS for reconsideration. In May 2019, the U.S. Department of Justice filed a notice of appeal.

As the annual notification of intent is based on the vacated regulations that implemented Amendment 113, this information will not be collected unless the regulations are reinstated on appeal.

NMFS is requesting renewal of this collection of information in the event of a successful appeal.

II. Method of Collection

The City Manager of Adak or the City Administrator of Atka submits a letter or memorandum to NMFS indicating that the community he or she represents intends to process Aleutian Islands Pacific cod. This notification of intent must be submitted annually by certified mail through the U.S. Postal Service and postmarked no later than October 31. It may also be emailed to ensure that NMFS has received notification prior to November 1. Email notification is optional and in addition to notification via the U.S. Postal Service; email does not replace the U.S. Postal Service notification requirement.

III. Data

OMB Control Number: 0648-0743.

Form Number(s): None.

Type of Review: Regular submission (extension of a current information collection).

Affected Public: Local government.

Estimated Number of Respondents: 2.

Estimated Time per Response: 30 minutes for annual notification of intent to process Aleutian Island Pacific cod.

Estimated Total Annual Burden Hours: 1 hour.

Estimated Total Annual Cost to Public: $8 in recordkeeping and reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-18180 Filed 8-22-19; 8:45 am]

BILLING CODE 3510-22-P